FEDERAL COMMUNICATIONS COMMISSION

Notice of Public Information Collection(s) being Reviewed by the Federal Communications Commission

April 17, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 26, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0384.

Title: Section 64.904, Independent Audits.

Form No.: N/A.

Type of Review: Revision of a currently approved collection.

Respondents: Business or other for-profit.

Number of Respondents: 14.

Estimated Time Per Response: 250 hours per audit.

Frequency of Response: Biennial reporting requirement.

Total Annual Burden: 3,500 hours.

Total Annual Cost: $1,200,000.

Needs and Uses: Local exchange carriers (LECs) and dominant interexchange carriers are required to submit an auditor's attestation biennially demonstrating the application of the Commission's cost allocation standards to their particular operations. The independent audit requirement is imposed to ensure that the carriers are properly implementing their cost allocation manual. The independent audits serve as an important aid in the Commission's monitoring program.

OMB Control No.: 3060-0470.

Title: Sections 64.901—64.903, Allocation of Cost, Cost Allocation Manual and RAO Letters 19 and 28.

Form No.: N/A.

Type of Review: Revision of a currently approved collection.

Respondents: Business or other for-profit.

Number of Respondents: 18 respondents; 36 responses.

Estimated Time Per Response: 300 hours per filing (approximately 2 per year).

Frequency of Response: Annual and on occasion reporting requirement.

Total Annual Burden: 10,800 hours.

Total Annual Cost: N/A.

Needs and Uses: Section 64,903(a) requires LECs with annual operating revenues equal to or above the indexed revenue threshold as defined in 47 CFR 32.9000 to file a cost allocation manual containing the information specified in Section 64.903(a)(1)-(6). Section 64.903(b) requires that carriers update their cost allocation manuals at least annually, except changes to the cost apportionment table and the description of time reporting procedures must be filed at time of implementation. The FCC uses the manual to ensure that all costs are properly classified.

Federal Communications Commission.
Shirley S. Suggs,
Chief, Publications Group Manager.

[FR Doc. 00-10358 Filed 4-25-00; 8:45 am]

BILLING CODE 6712-01-U